DEPARTMENT OF THE TREASURY

Open Meeting of the President's Economic Recovery Advisory Board

AGENCY: Departmental Offices.

ACTION: Notice of Open Meeting.

SUMMARY: The President's Economic Recovery Advisory Board (the PERAB) will meet on August 27, 2010 via conference call beginning at 2 p.m. Eastern Time. The meeting will be open to the public via live audio stream at http://www.whitehouse.gov/live.

DATES: The meeting will be held on August 27, 2010 at 2 p.m. Eastern Time.

ADDRESSES: The PERAB will convene its next meeting via conference call. The public is invited to submit written statements to the Advisory Committee by either of the following methods:

Electronic Statements

• Send written statements to the PERAB's Web site at http://www.whitehouse.gov/administration/eop/perab/comment; or

Paper Statements

• Send paper statements in triplicate to Emanuel Pleitez, Designated Federal Officer, President's Economic Recovery Advisory Board, Office of the Under Secretary for Domestic Finance, Room 1325A, Department of the Treasury, 1500 Pennsylvania Avenue, NW., Washington, DC 20220.

In general, all statements will be posted on the White House Web site (http://www.whitehouse.gov) without change, including any business or personal information provided such as names, addresses, e-mail addresses, or telephone numbers. The Department will also make such statements available for public inspection and copying in the Department's Library, Room 1428, Main Department Building, 1500 Pennsylvania Avenue, NW., Washington, DC 20220, on official business days between the hours of 10 a.m. and 5 p.m. Eastern Time. You can make an appointment to inspect statements by telephoning (202) 622-0990. All statements, including attachments and other supporting materials, received are part of the public record and subject to public disclosure. You should submit only information that you wish to make available publicly.

FOR FURTHER INFORMATION CONTACT: Emanuel Pleitez, Designated Federal Officer, President's Economic Recovery Advisory Board, Office of the Under Secretary for Domestic Finance, Department of the Treasury, Main Department Building, 1500 Pennsylvania Avenue, NW., Washington, DC 20220, at (202) 622-2000.

SUPPLEMENTARY INFORMATION: In accordance with Section 10(a) of the Federal Advisory Committee Act, 5 U.S.C. App. II, sec.10(a), and the regulations thereunder, Emanuel Pleitez, Designated Federal Officer of the Advisory Board, has ordered publication of this notice that the PERAB will convene its next meeting on August 27, 2010 via conference call beginning at 2 p.m. Eastern Time. The meeting will be broadcast on the internet via live audio stream at http://www.whitehouse.gov/live. The purpose of this meeting is to continue discussion of the issues impacting the strength and competitiveness of the Nation's economy. The discussion will include Board review of a report by the Tax Reform subcommittee. The report discusses a spectrum of reform ideas relating to tax simplification, enforcement of existing tax laws, and reform of the corporate tax system, without considering policies that would raise taxes on families making less than $250,000. The PERAB is not tasked with providing its own policy recommendations for the Administration and the final report will be an almanac of options from a broad range of viewpoints. The PERAB will vote on presenting the report as formal advice to the President.

Dated: August 3, 2010.
Alastair Fitzpayne,
Executive Secretary and Deputy Chief of Staff.

[FR Doc. 2010-19739 Filed 8-10-10; 8:45 am]

BILLING CODE 4810-25-P